NATIONAL ARCHIVES AND RECORDS ADMINISTRATION

36 CFR Part 1236

[FDMS No. NARA-24-0012; NARA-2024-037]

RIN 3095-AC18

Federal Records Management: Digitizing Temporary Records

AGENCY: National Archives and Records Administration (NARA).

ACTION: Direct final rule.

SUMMARY: In June 2023, the National Archives and Records Administration (NARA) issued GRS Transmittal 34, which introduced GRS 4.5 Digitizing Records. NARA is updating the regulations to incorporate GRS 4.5 and ensure agencies use the proper authorization for disposing of temporary records that have been digitized. We added guidance directing agencies to manage temporary digital records according to the requirements. We also clarified language regarding when agencies may dispose of the scheduled source records. Additionally, we are harmonizing language in existing regulations with the new amendments.

DATES: This rule is effective August 28, 2024 without further action, unless adverse comment is received by July 1, 2024. If adverse comment is received, NARA will publish a timely withdrawal of the rule in the Federal Register.

ADDRESSES: You may submit comments on this rule, identified by RIN 3095-AC18, by any of the following methods:

• Federal eRulemaking Portal: http://www.regulations.gov. Follow the instructions for submitting comments.

• Email: Regulation_comments@nara.gov. Include RIN 3095-AC18 in the subject line of the message.

• Mail (for paper, disk, or CD-ROM submissions): Send comments to Regulation Comments Desk (External Policy Program, Strategy & Performance Division (MP)); Suite 4100; National Archives and Records Administration; 8601 Adelphi Road; College Park, MD 20740-6001.

• Hand delivery or courier: Deliver comments to the front desk at 8601 Adelphi Road, College Park, MD, addressed to: Regulations Comments Desk, External Policy Program; Suite 4100.

FOR FURTHER INFORMATION CONTACT: Edward Germino, Strategy and Performance Division, by email at regulation_comments@nara.gov, or by telephone at 301-837-3758. Contact rmstandards@nara.gov with any questions on records management standards and policy.

SUPPLEMENTARY INFORMATION:

Background

In June 2023, the National Archives and Records Administration (NARA) released GRS Transmittal 34, which introduced a new schedule called GRS 4.5 Digitizing Records to specifically address the handling of digitized source records. Previously, these records were covered under GRS 5.2 Transitory and Intermediary Records. With this update, we have revised 36 CFR 1236.36 to provide agencies with the proper authority for managing digitized temporary records. We also clarified language in § 1236.36 regarding when agencies may dispose of the scheduled source records.

In subpart D, we previously used the term “original source records.” However, we removed the word “original” because the source records may or may not be the original versions. We are also making this change in the heading for § 1236.36. The term “source records” refers to the records that underwent digitization and validation as part of a digitization project.

Finally, we have added guidance to § 1236.30 directing agencies to manage temporary digital records according to the requirements in 36 CFR part 1236 subparts A, B, and C.

Regulatory Analysis

Executive Order 12866, Regulatory Planning and Review, and Executive Order 13563, Improving Regulation and Regulation Review

The Office of Management and Budget (OMB) has reviewed this rulemaking and determined it is not “significant” under section 3(f) of Executive Order 12866. It is not significant because it applies only to Federal agencies, updates the regulations due to a statutory requirement, the new requirements are being added to clarify ones that agencies have already been required to follow, and is not establishing a new program. The requirements are necessary to comply with statute and to ensure agencies are appropriately preserving records.

Regulatory Flexibility Act (5 U.S.C. 601, et seq.)

This review requires an agency to prepare an initial regulatory flexibility analysis and publish it when the agency publishes the proposed rule. This requirement does not apply if the agency certifies that the rulemaking will not, if promulgated, have a significant economic impact on a substantial number of small entities (5 U.S.C. 603). We certify, after review and analysis, that this rulemaking will not have a significant adverse economic impact on small entities.

Paperwork Reduction Act of 1995 (44 U.S.C. 3501 et seq.)

The Paperwork Reduction Act of 1995 (PRA) (44 U.S.C. 3501, et seq.) requires that agencies consider the impact of paperwork and other information collection burdens imposed on the public and, under the provisions of PRA section 3507(d), obtain approval from OMB for each collection of information we conduct, sponsor, or require through regulations. This rulemaking does not impose additional information collection requirements on the public that are subject to the Paperwork Reduction Act.

Executive Order 13132, Federalism

Executive Order 13132 requires agencies to ensure State and local officials have the opportunity for meaningful and timely input when developing regulatory policies that may have a substantial, direct effect on the States, on the relationship between the Federal Government and the States, or on the distribution of power and responsibilities among the various levels of government. If the effects of the rule on State and local governments are sufficiently substantial, the agency must prepare a Federal assessment to assist senior policymakers. This rulemaking will not have any effects on State and local governments within the meaning of the E.O. Therefore, no federalism assessment is required.

Unfunded Mandates Reform Act (Sec. 202, Pub. L. 104-4; 2 U.S.C. 1532)

The Unfunded Mandates Reform Act requires that agencies determine whether any Federal mandate in the rulemaking may result in State, local, and Tribal governments, in the aggregate, or the private sector, expending $100 million in any one year. NARA certifies that this rulemaking does not contain a Federal mandate that may result in such an expenditure.

List of Subjects in 36 CFR Part 1236

Archives and records, Digital records, Digitization, Records management.

For the reasons discussed in the preamble, NARA amends 36 CFR part 1236 as follows:

PART 1236—ELECTRONIC RECORDS MANAGEMENT

1. The authority citation for part 1236 continues to read as follows;

Authority: 44 U.S.C. 2904, 3101, 3102, 3105, 3301, 3302, and 3312.

2. Revise § 1236.30 to read as follows:

§ 1236.30 Requirements for digitizing temporary records.

(a) If an agency intends to digitally reproduce (digitize) temporary records in order to use the digitized records in place of the source records, the agency must:

(1) Digitize the record to the standards in § 1236.32;

(2) Validate the digitization according to § 1236.34; and

(3) Manage the digital records according to the requirements in subparts A, B, and C of this part.

(b) When an agency disposes of source records, the agency must follow the requirements in § 1236.36.

3. In § 1236.32, revise paragraphs (a), (b), and (c) to read as follows:

§ 1236.32 Digitization standards.

* * * * *

(a) Capture all information contained in the source records;

(b) Include all the pages or parts from the source records;

(c) Ensure the agency can use the digitized records for all the purposes the source records serve, including the ability to attest to transactions and activities;

* * * * *

4. In § 1236.34, revise paragraphs (a) and (b) to read as follows:

§ 1236.34 Validating digitization.

(a) Agencies must validate that the digitized records are of suitable quality to replace source records.

(b) Agencies may establish their own validation process or use third-party processes to validate that the digitized records comply with § 1236.32. The process may be project-based or agency-wide policy.

* * * * *

5. Revise § 1236.36 to read as follows:

§ 1236.36 Disposing of source records.

(a) When an agency disposes of source records, it must have an approved agency records schedule or identify an applicable General Records Schedule.

(b) When an agency has validated that the digitized versions meet the standards in § 1236.32, the agency may destroy the source records according to General Records Schedule (GRS) 4.5 Digitizing Records.

(c) Agencies must consider any existing legal restrictions, such as a litigation hold, before destroying the source records.

(d) Agencies must manage the digitized records in the same way it would have managed the source records. Agencies must retain the digitized records for the remaining portion of any retention period established by the applicable records schedule.

(e) Agencies do not need NARA approval to destroy scheduled temporary source records they have digitized according to this part.

Colleen J. Shogan,
Archivist of the United States.

[FR Doc. 2024-11910 Filed 5-29-24; 8:45 am]

BILLING CODE P